DEPARTMENT OF THE INTERIOR

Bureau of Land Management

[AK-025-07-1610-DQ-089L]

Notice of Availability of Kobuk-Seward Peninsula Proposed Resource Management Plan and Final Environmental Impact Statement, AK

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Proposed Resource Management Plan/Final Environmental Impact Statement (Proposed RMP/Final EIS) for the Kobuk-Seward Peninsula Planning Area in Alaska.

DATES: The BLM Planning Regulations state that any person who participated in the planning process, and has an interest that is or may be adversely affected, may protest the BLM's approval or amendment of an RMP within 30 days of the date that the Environmental Protection Agency publishes its Notice of Availability in the Federal Register. Instructions for filing of protests are described in the Dear Reader letter of the Kobuk-Seward Peninsula Proposed RMP/Final EIS. Please consult BLM's Planning Regulations (43 CFR 1610.5-2) for further instructions on protests.

FOR FURTHER INFORMATION CONTACT: Jeanie Cole, BLM Central Yukon Field Office, 1150 University Avenue, Fairbanks, AK 99709, (907) 474-2340, jeanie_cole@ak.blm.gov.

SUPPLEMENTARY INFORMATION: The Kobuk-Seward Peninsula planning area covers approximately 11.9 million acres of BLM-managed land in northwestern Alaska. The Kobuk-Seward Peninsula Proposed RMP/Final EIS focuses on the principles of multiple use and sustained yield as prescribed by section 202 of the Federal Land Policy and Management Act of 1976 (FLPMA). The Proposed RMP/Final EIS considers and analyzes four alternatives, including a No Action and a Preferred Alternative. The alternatives provide for an array of variable levels of commodity production and resource protection and restoration. The Proposed RMP/Final EIS will help the BLM meet its mandate of multiple use and sustained yield.

The alternatives were developed based on public scoping and participation, and the requirements of the BLM's Land Use Planning Handbook (H-1601-1). The public involvement and collaboration process included 9 public scoping meetings, 12 public meetings on the Draft RMP/EIS, and meetings with other interested parties.

Four primary issues were raised and addressed through this planning process. (1) Recreation, including how the BLM should manage recreation to provide and maintain a diversity of experiences on BLM-managed public lands while protecting subsistence resources and opportunity, and what level of commercial recreational permits is appropriate, particularly in the Squirrel River area; (2) Subsistence, including maintaining and protecting subsistence uses; (3) Minerals Management, determining which areas should be available for mineral exploration and development; (4) Access/Travel Management, allowing for access to BLM-managed public lands for various purposes. In addition to these issues, the Proposed RMP/Final EIS addresses management of various program areas such as vegetation, fish and wildlife habitat, fire management, cultural resources, visual resources, forest products, livestock grazing, and realty. The Proposed RMP/Final EIS also resulted in development of required operating procedures (ROP), which are requirements, procedures, management practices, or design features the BLM adopts as operational requirements for all permitted activities. The ROPs were developed to ensure that Alaska Statewide Land Health Standards are met.

The Squirrel River area contains BLM-and-State-managed land, and is surrounded by National Park Service-and Fish and Wildlife Service-managed lands. Ultimately, the Northwest Arctic Borough will also be a land owner. Approximately 14 percent of the public comments were related to recreation and 7 percent were specific to the Squirrel River. Relatively easy access to this area from Kotzebue by fixed-wing aircraft, a large number of gravel bars that can be used for landing strips, and the reduced level of regulation compared to other surrounding federal lands, make the Squirrel River a popular destination for hunters. Local subsistence hunters have expressed concern about this area for more than a decade, raising issues such as competition with subsistence hunters by large numbers of sport hunters, potential deflection of migrating caribou away from subsistence villages, waste of game meat, lack of enforcement, and unmanaged commercial guiding/transporter operations. Alternatives B, C, and D of the Proposed RMP/Final EIS all identify the Squirrel River as a special recreation management area. One component of the BLM's preferred alternative (D) is to maintain recreational use of the Squirrel River at the current level while developing a recreation area management plan. This recreation area management plan, developed in concert with the State and Northwest Arctic Borough, both of which do or soon will own land in the Squirrel River watershed, would develop special rules to address the issues in the area.

As required by 43 CFR 1610.7-2, areas with potential for designation as Areas of Critical Environmental Concern (ACEC) have been considered during the planning process. Approximately seven percent of the total comments submitted during the public-comment period pertained to ACECs. The Proposed RMP/Final EIS identifies six ACECs for designation in the BLM's preferred alternative. Final acreage for areas designated as ACECs will depend on the result of land conveyance to the State of Alaska and Native Corporations. The following table provides a summary of proposed ACECs and descriptions of resource use limitations provided by decisions made in the proposed plan.

Table 1.—Proposed ACECs under Alternative D (preferred alternative) of the Proposed RMP/Final EIS
Name of area | Acreage | Resource use limitations
Nulato Hills ACEC | 1.1 million | Limited OHV designation. Retained in Federal ownership. Closed to grazing outside of existing allotments. Designate as ROW avoidance area. Open to fluid mineral leasing subject to special stipulations.
|  | Open to locatable mineral entry subject to required operating procedures.
Western Arctic Caribou Herd Insect Relief ACEC | 1.5 million | Same as Nulato Hills except it would not be designated as a ROW avoidance area and the entire ACEC would be closed to grazing.
Inglutalik Watershed ACEC | 466,000 | Same as Nulato Hills except it would not be a ROW avoidance area.
Ungalik Watershed ACEC | 264,000 | Same as Nulato Hills except it would not be a ROW avoidance area.
Shaktoolik Watershed ACEC | 234,000 | Same as Nulato Hills except it would not be a ROW avoidance area.
Mount Osborn ACEC | 82,000 | Same as Nulato Hills except the level of commercial recreational use may be limited, it would be open to grazing, and it would not be a ROW avoidance area.

During the public comment period on the Draft RMP/EIS the BLM received nine additional ACEC nominations. The areas nominated were: Coastal areas near Kivalina, Teller, Koyuk, and Unalakleet; the Bendeleben and Darby mountains; the Agiapuk and American rivers; and the multiple major pathways and convergence area of caribou migration routes in the vicinity of Selawik-Kobuk. The BLM evaluated these areas for possible ACEC designation and determined that designation was not warranted. The BLM will not retain sufficient land in the Teller, Kivalina and Koyuk areas to warrant designation, Unalakleet is outside of the Planning Area, and the BLM does not administer any land along the American River. The Bendeleben and Darby mountains and the Agiapuk River have some relevant values but do not meet the importance criteria defined under 43 CFR 1601.7-2. The caribou migration routes meet the relevance criteria of supporting a significant wildlife resource. However, data on caribou migration routes is not sufficient to support the importance criteria. In fact, the limited data available seems to indicate that caribou migrate less on BLM-managed public land and more on private, National Park Service, Fish and Wildlife Service, and State lands. The primary areas of BLM-managed public land in this migration area are the Squirrel River, which was identified as a special recreation management area where BLM proposes to develop a recreation area management plan, and the northern Nulato Hills, which is within the proposed Nulato Hills ACEC.

All comments received on the plan were analyzed and evaluated. Appendix J of the Proposed RMP/Final EIS contains all substantive comments received and BLM responses to those comments. Comments on the Draft RMP/EIS received from the public and internal BLM review comments were incorporated into the Proposed RMP/Final EIS. Public comments resulted in changes to the preferred alternative through the addition of clarifying text and additional analysis of impacts. A summary of these changes is included in the Proposed RMP/Final EIS after the Executive Summary.

Copies of the Kobuk-Seward Peninsula Proposed RMP/Final EIS have been sent to affected Federal, State, and Local Government agencies and to interested parties. Copies of the Proposed RMP/Final EIS have also been sent to individuals, agencies, and groups as requested or as required by regulation or policy. Copies of the Proposed RMP/Final EIS are available for public inspection at the BLM Fairbanks District Office at 1150 University Avenue, Fairbanks, Alaska, during normal business hours from 7:45 a.m. to 4:30 p.m., Monday through Friday except holidays.

Interested persons may also view the Proposed RMP/Final EIS on the Internet at http://www.ak.blm.gov/ksp or at one of the following locations in Alaska: The BLM Fairbanks District Office, Fairbanks; BLM Nome Field Station, Nome; BLM Anchorage Field Office, Anchorage; BLM Alaska State Office, Public Room, Anchorage; Noel Wien Library, Fairbanks; Keyoayah Kozga Library, Nome; Chukchi Consortium Library, Kotzebue; Anchorage Municipal Library, Anchorage; Alaska State Library, Juneau; Tuzzy Consortium Library, Barrow; Selawik National Wildlife Refuge Headquarters, Kotzebue; Northwest Arctic Borough Planning Department, Kotzebue.

E-mail and faxed protests will not be accepted as valid protests unless the protesting party also provides the original letter by either regular or overnight mail postmarked by the close of the protest period to one of the following addresses, or as appropriate:

Regular Mail: Director (210),

Attention: Brenda Williams, P.O. Box 66538, Washington, DC 20035.

Overnight Mail: Director (210),

Attention: Brenda Williams, 1620 L Street, NW., Suite 1075, Washington, DC 20036.

Under these conditions, the BLM will consider the e-mail or faxed protest as an advance copy and it will receive full consideration. If you wish to provide the BLM with such advance notification, please direct faxed protests to the attention of the BLM protest coordinator at 202-452-5112, and e-mails to Brenda_Hudgens-Williams@blm.gov.

Before including your address, phone number, e-mail address, or other personal identifying information in your protest, you should be aware that your entire protest—including your personal identifying information—may be made publicly available at any time. While you can ask us in your protest to withhold your personal identifying information from public review, we cannot guarantee that we will be able to do so.

Dated: August 20, 2007.
Julia Dougan,
Acting State Director.

[FR Doc. E7-19064 Filed 9-27-07; 8:45 am]

BILLING CODE 4310-JA-P